DEPARTMENT OF THE INTERIOR

National Park Service

[N6471; NPS-WASO-NAGPRA-NPS0040890; PPWOCRADN0-PCU00RP14.R50000]

Notice of Intended Repatriation: Los Rios Community College District, Sacramento, CA

AGENCY: National Park Service, Interior.

ACTION: Notice.

SUMMARY: In accordance with the Native American Graves Protection and Repatriation Act (NAGPRA), the Los Rios Community College District (LRCCD) intends to repatriate certain cultural items that meet the definition of objects of cultural patrimony and that have a cultural affiliation with the Indian Tribes or Native Hawaiian organizations in this notice.

DATES: Repatriation of the cultural items in this notice may occur on or after September 22, 2025.

ADDRESSES: Send additional, written requests for repatriation of the cultural items in this notice to Jamey Nye, Los Rios Community College District, 1919 Spanos Ct, Arden-Arcade, CA 95825, email nagpra@losrios.edu.

SUPPLEMENTARY INFORMATION: This notice is published as part of the National Park Service's administrative responsibilities under NAGPRA. The determinations in this notice are the sole responsibility of LRCCD, and additional information on the determinations in this notice, including the results of consultation, can be found in the summary or related records. The National Park Service is not responsible for the determinations in this notice.

Abstract of Information Available

A total of six cultural items have been requested for repatriation. The six objects of cultural patrimony are one bone awl and five bundles of fiber. The cultural items were removed from El Dorado County, CA in the 1930s and given to the Lillard Collection at Sacramento City College which were later transferred to American River College, both campuses within the Los Rios Community College District.

Determinations

LRCCD has determined that:

• The six objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Shingle Springs Band of Miwok Indians, Shingle Springs Rancheria (Verona Tract), California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after September 22, 2025. If competing requests for repatriation are received, LRCCD must determine the most appropriate requestor prior to repatriation. Requests for joint repatriation of the cultural items are considered a single request and not competing requests. LRCCD is responsible for sending a copy of this notice to the Indian Tribes and Native Hawaiian organizations identified in this notice and to any other consulting parties.

Authority: Native American Graves Protection and Repatriation Act, 25 U.S.C. 3004 and the implementing regulations, 43 CFR 10.9.

Dated: August 13, 2025.
Melanie O'Brien,
Manager, National NAGPRA Program.

[FR Doc. 2025-16126 Filed 8-21-25; 8:45 am]

BILLING CODE 4312-52-P